DEPARTMENT OF INTERIOR

National Park Service

[NPS-WASO-NRSS-EQD-SSB XXXXX; PPWONRADE3, PPMRSNR1Y.NM000 (177)]

Proposed Information Collection; National Park Service Visitor Survey Card

AGENCY: National Park Service, Interior.

ACTION: Notice; request for comments.

SUMMARY: We (National Park Service) will ask the Office of Management and Budget (OMB) to approve an information collection (IC) described below. As required by the Paperwork Reduction Act of 1995 and as part of our continuing efforts to reduce paperwork and respondent burden, we invite the general public and other federal agencies to take this opportunity to comment on this IC. We may not conduct or sponsor, and a person is not required to respond to, a collection of information unless it displays a currently valid OMB Control Number.

DATES: To ensure that your comments on this IC are considered, we must receive them on or before March 13, 2017.

ADDRESSES: Direct all written comments on this IC to Phadrea Ponds, Information Collection Coordinator, National Park Service, 1201 Oakridge Drive, Fort Collins, CO 80525 (mail); or phadrea_ponds@nps.gov (email). Please reference Information Collection 1024-0216 in the subject line.

FOR FURTHER INFORMATION CONTACT: Bret Meldrum, Chief Social Science Program, 1201 Oakridge Drive, Fort Collins, CO, 80525 (mail) or bret_meldrum@nps.gov (email).

SUPPLEMENTARY INFORMATION:

I. Abstract

The National Park Service (NPS) is required to provide an understanding of visitor satisfaction and an understanding of the park and agency's performance related to The Government Performance and Results Act (GPRA) NPS Goals IIa1 (visitor satisfaction) and IIb1 (visitor understanding and appreciation). The Visitor Survey Card (VSC) was developed to measure each park unit's performance related to these two goals. The Visitor Survey Card contains eight questions regarding visitor evaluations of service and facility quality, awareness of park significance, and basic demographic information. Each year, all NPS units nationwide (approximately 332) are required to collect data using the Visitor Survey Card. Data and information collected through the VSC are used to measure and report performance related to a broad list of GPRA Goals and to provide feedback used by Superintendents and other managers to develop performance improvement plans.

II. Data

OMB Number: 1024-0216.

Title: National Park Service Visitor Survey Card.

Type of Request: Renewal.

Affected Public: General Public, any person visiting the park during the sampling period.

Respondent Obligation: Voluntary.

Frequency of Collection: One-time, on occasion.

Estimated Number of Annual Responses: 175,000.

Annual Burden Hours: 4,116 hours.

Estimated Reporting and Recordkeeping “Non-Hour Cost” Burden: We have not identified any “non-hour cost” burdens associated with this collection of information.

III. Request for Comments

We invite comments concerning this information collection on:

• The practical utility of the information being gathered;

• The accuracy of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: January 4, 2017.
Madonna L. Baucum,
Information Collection Clearance Officer, National Park Service.

[FR Doc. 2017-00211 Filed 1-9-17; 8:45 am]

BILLING CODE 4312-52-P